DEPARTMENT OF COMMERCE

National Oceanic and Atmospheric Administration

50 CFR Part 635

[Docket No. 140429387-4971-02]

RIN 0648-XD954

Gulf of Mexico Highly Migratory Species; Commercial Blacknose Sharks and Non-Blacknose Small Coastal Sharks in the Gulf of Mexico Region

AGENCY: National Marine Fisheries Service (NMFS), National Oceanic and Atmospheric Administration (NOAA), Commerce.

ACTION: Temporary rule; closure.

SUMMARY: NMFS is closing the fisheries for commercial non-blacknose small coastal sharks (SCS) and blacknose sharks in the Gulf of Mexico region. This action is necessary because the commercial landings of Gulf of Mexico non-blacknose SCS for the 2015 fishing season have exceeded 80 percent of the available commercial quota as of June 26, 2015, and the blacknose shark and non-blacknose SCS fisheries are quota-linked under current regulations.

DATES: The commercial fisheries for blacknose sharks and non-blacknose SCS in the Gulf of Mexico region are closed effective 11:30 p.m. local time July 4, 2015, until the end of the 2015 fishing season on December 31, 2015, or until and if NMFS announces via notification in the Federal Register that additional quota is available and the season is reopened.

FOR FURTHER INFORMATION CONTACT: Guy DuBeck or Karyl Brewster-Geisz 301-427-8503; fax 301-713-1917.

SUPPLEMENTARY INFORMATION: The Gulf of Mexico shark fisheries are managed under the 2006 Consolidated Highly Migratory Species (HMS) Fishery Management Plan (FMP), its amendments, and its implementing regulations (50 CFR part 635) issued under authority of the Magnuson-Stevens Fishery Conservation and Management Act (16 U.S.C. 1801 et seq.).

Under § 635.5(b)(1), dealers must electronically submit reports on sharks that are first received from a vessel on a weekly basis through a NMFS-approved electronic reporting system. Reports must be received by no later than midnight, local time, of the first Tuesday following the end of the reporting week unless the dealer is otherwise notified by NMFS. Under § 635.28(b)(2), the quotas of certain species and/or management groups are linked. The quotas for non-blacknose SCS and the blacknose shark management group in the Gulf of Mexico region are linked (§ 635.28(b)(3)(iv)). Under § 635.28(b)(2), when NMFS calculates that the landings for any species and/or management group of a linked group has reached or is projected to reach 80 percent of the available quota, NMFS will file for publication with the Office of the Federal Register a notice of closure for all of the species and/or management groups in a linked group that will be effective no fewer than 5 days from date of filing. From the effective date and time of the closure until and if NMFS announces, via notification in the Federal Register, that additional quota is available and the season is reopened, the fisheries for all linked species and/or management groups are closed, even across fishing years.

On December 2, 2014 (79 FR 71331), NMFS announced that the 2015 commercial Gulf of Mexico non-blacknose SCS quota is 45.5 metric tons (mt) dressed weight (dw) (100,317 lb dw) and the blacknose shark quota is 1.8 mt dw (4,076 lb dw).

Dealer reports recently received through June 26, 2015, indicated that 36.9 mt dw or 81 percent of the available Gulf of Mexico non-blacknose SCS quota had been landed and 1.0 mt dw or 52 percent of the available Gulf of Mexico blacknose shark quota had been landed. Based on these dealer reports, landings of non-blacknose SCS have exceeded 80 percent of the quota by June 26, 2015. Accordingly, NMFS is closing both the commercial blacknose shark fishery and non-blacknose SCS management group in the Gulf of Mexico region as of 11:30 p.m. local time July 4, 2015. The only shark species or management groups that remain open in the Gulf of Mexico region are the research large coastal sharks, sandbar sharks within the shark research fishery, the blue shark, and pelagic sharks other than porbeagle or blue shark management groups.

At § 635.27(b)(1), the boundary between the Gulf of Mexico region and the Atlantic region is defined as a line beginning on the East Coast of Florida at the mainland at 25°20.4′ N. lat, proceeding due east. Any water and land to the south and west of that boundary is considered, for the purposes of monitoring and setting quotas, to be within the Gulf of Mexico region.

During the closure, retention of blacknose sharks and non-blacknose SCS in the Gulf of Mexico region is prohibited for persons fishing aboard vessels issued a commercial shark limited access permit (LAP) under § 635.4. However, persons aboard a commercially permitted vessel that is also properly permitted to operate as a charter vessel or headboat for HMS and is engaged in a for-hire trip could fish under the recreational retention limits for sharks and “no sale” provisions (§ 635.22(a) and (c)).

During this closure, a shark dealer issued a permit pursuant to § 635.4 may not purchase or receive blacknose sharks or non-blacknose SCS in the Gulf of Mexico region from a vessel issued a shark LAP, except that a permitted shark dealer or processor may possess blacknose sharks and/or non-blacknose SCS in the Gulf of Mexico region that were harvested, off-loaded, and sold, traded, or bartered prior to the effective date of the closure and were held in storage consistent with § 635.28(b)(5). Similarly, a shark dealer issued a permit pursuant to § 635.4 may, in accordance with relevant state regulations, purchase or receive blacknose sharks and/or non-blacknose SCS in the Gulf of Mexico region if the sharks were harvested, off-loaded, and sold, traded, or bartered from a vessel that fishes only in state waters and that has not been issued a shark LAP, HMS Angling permit, or HMS Charter/Headboat permit pursuant to § 635.4.

Classification

Pursuant to 5 U.S.C. 553(b)(B), the Assistant Administrator for Fisheries, NOAA (AA), finds that providing prior notice and public comment for this action is impracticable and contrary to the public interest because the fisheries are currently underway and any delay in this action would result in overharvest of the Gulf of Mexico non-blacknose SCS quota and be inconsistent with management requirements and objectives. Similarly, affording prior notice and opportunity for public comment on this action is contrary to the public interest because if the quota is exceeded, the stock may be negatively affected and fishermen ultimately could experience reductions in the available quota and a lack of fishing opportunities in future seasons. For these reasons, the AA also finds good cause to waive the 30-day delay in effective date pursuant to 5 U.S.C. 553(d)(3). This action is required under § 635.28(b)(2) and is exempt from review under Executive Order 12866.

Authority: 16 U.S.C. 1801 et seq.

Dated: June 29, 2015.
Emily H. Menashes,
Acting Director, Office of Sustainable Fisheries, National Marine Fisheries Service.

[FR Doc. 2015-16355 Filed 6-29-15; 4:15 pm]

BILLING CODE 3510-22-P